DEPARTMENT OF LABOR

Office of the Secretary

Submission for OMB Review; Comment Request

June 25, 2003.

The Department of Labor (DOL) has submitted the following public information collection request (ICR) to the Office of Management and Budget (OMB) for review and approval in accordance with the Paperwork Reduction Act of 1995 (Pub. L. 104-13, 44 U.S.C. Chapter 35). A copy of this ICR, with applicable supporting documentation, may be obtained by calling the Department of Labor. To obtain documentation contact Darrin King on (202) 693-4129 (this is not a toll-free number) or E-Mail: king.darrin@dol.gov.

Comments should be sent to Office of Information and Regulatory Affairs, Attn: OMB Desk Officer for the Occupational Safety and Health Administration (OSHA), Office of Management and Budget, Room 10235, Washington, DC 20503 ((202) 395-7316/this is not a toll-free number), within 30 days from the date of this publication in the Federal Register.

The OMB Is Particularly Interested in Comments Which

• Evaluate whether the proposed collection of information is necessary for the proper performance of the functions of the agency, including whether the information will have practical utility;

• Evaluate the accuracy of the agency's estimate of the burden of the proposed collection of information, including the validity of the methodology and assumptions used;

• enhance the quality, utility, and clarity of the information to be collected; and

• minimize the burden of the collection of information on those who are to respond, including through the use of appropriate automated, electronic, mechanical, or other technological collection techniques or other forms of information technology, e.g., permitting electronic submission of responses.

Agency: Occupational Safety and Health Administration.

Title: Personal Protective Equipment for General Industry.

OMB Number: 1218-0205.

Frequency: On occasion.

Type of Response: Recordkeeping.

Affected Public: Business or other for-profit; Not-for-profit institutions; Federal Government; and State, Local or Tribal Government.

Number of Respondents: 33,200,000.

Information collection requirement | Annual response | Average responses time (hours) | Annual burden hours
Assessment of Workplace Hazards—29 CFR 1910.132(d)(1) | 169,600 | 1.00 | 169,600
Firms with 1-19 Employee | 76,320 | 3.00 | 228,960
Firms with 20-99 Employee | 76,320 | 10.00 | 763,200
Firms with 100-249 Employee | 8,480 | 19.00 | 161,120
Firms with 250 or More Employee | 8,480 | 29.00 | 245,920
Written Certification of Assessment—29 CFR 1910.132(d)(2) | 640,000 | 1.00 | 640,000
Certification of PPE Training—29 CFR 1910.132(f)(4) |  |  |
Maintain Employee Certification Record (all employees) | 33,200,000 | 0.02 | 664,000
Generate and Maintain Training Documentation for New/Retrained Employee | 7,968,000 | 0.05 | 398,400
Re-training and Recertification | 1,328,000 | 0.05 | 66,400
Disclose Training Certification Record to OSHA During and Inspection | 44,800 | 0.03 | 1,344
Total | 43,350,400 |  | 3,169,344

Total Annualized capital/startup costs: $0.

Total annual costs (operating/maintaining systems or purchasing services): $0.

Description: The collections of information in the standard are necessary for implementation of the requirements of the standard. The Standard specifies several paperwork requirements. The following sections describe the information collection requirements and who will use the information.

Paragraph 1910.132(d)(1) requires employers to perform a hazard assessment of the workplace to determine if personal protective equipment (PPE) is necessary. Paragraph (d)(2) requires employers to certify that a hazard assessment has been performed. The signed certification must include the date the hazard assessment was conducted and the identification of the workplace evaluated (area or location).

Paragraph 1910.132 (f)(4) requires employers to certify that employees have received and understood PPE training. The training certification must include the name of the employee(s) trained, the date of training, and the subject of the certification (i.e., a statement identifying the document as a certification of training in the use of PPE). The hazard assessment assures that the PPE selected is appropriate for the hazards present in the workplace. The certification required with the hazard assessment verifies that the hazard assessment was conducted. The training certification verifies that employees have received the necessary training involving PPE. OSHA compliance officers may require employers to disclose the certification records during an Agency inspection.

Ira L. Mills,
Departmental Clearance Officer.

[FR Doc. 03-16704 Filed 7-1-03; 8:45 am]

BILLING CODE 4510-26-P